DEPARTMENT OF COMMERCE

International Trade Administration

[A-507-502]

Certain In-Shell Raw Pistachios From Iran: Notice of Rescission of Antidumping Duty Administrative Review

AGENCY: Import Administration, International Trade Administration, Department of Commerce.

ACTION: Notice of Rescission of Antidumping Duty Administrative Review.

SUMMARY: On August 20, 2001, the Department of Commerce (the Department) published in the Federal Register (66 FR 43570) a notice announcing the initiation of an administrative review of the antidumping duty order on certain in-shell raw pistachios from Iran and Rafsanjan Pistachio Producers Cooperative (RPPC). The review period is July 1, 2000 to June 30, 2001. This review has now been rescinded because there were no sales of subject merchandise by RPPC to the United States during the period of review.

EFFECTIVE DATE: August 7, 2002.

FOR FURTHER INFORMATION CONTACT: Phyllis Hall or Donna Kinsella, Enforcement Group III, Office 8, Import Administration, International Trade Administration, U.S. Department of Commerce, 14th Street and Constitution Avenue, N.W., Room 7866, Washington, D.C. 20230; telephone (202) 482-1398 or (202) 482-0194 respectively.

SUPPLEMENTARY INFORMATION:

The Applicable Statute

Unless otherwise indicated, all citations to the Tariff Act of 1930, as amended (the Act) are references to the provisions effective January 1, 1995, the effective date of the amendments made to the Act by the Uruguay Round Agreements Act (URAA). In addition, unless otherwise indicated, all citations to the Department's regulations are references to the provisions codified at 19 CFR Part 351 (2001).

Scope of Review

Imports covered by this review are raw, in-shell pistachio nuts from which the hulls have been removed, leaving the inner hard shells and edible meats, from Iran. The merchandise under review is currently classifiable under item 0802.50.20.00 of the Harmonized Tariff Schedule of the United States (HTSUS). Although the HTSUS subheadings are provided for convenience and customs purposes, our written description of the scope of this proceeding is dispositive.

Background

On July 11, 2001, Cyrus Marketing (Cyrus), a U.S. importer of subject merchandise, requested an administrative review of the antidumping duty order on Certain In-Shell Pistachios from Iran, published in the Federal Register on July 17, 1986 (51 FR 25922), and RPPC, an Iranian producer and exporter of pistachios. We initiated the review on August 20, 2001 (66 FR 43570). On September 28, 2001, January 8, 2002, February 7, 2002, March 6, 2002, and April 25, 2002 the Department issued standard and supplemental antidumping questionnaires. On November 15, 2001, December 4, 2000, February 4, 2002, March 20, 2002, and May 13, 2002, RPPC submitted responses to these questionnaires and a July 3, 2002, addendum. Additionally, on February 20, 2002, the Department orally requested information from RPPC. RPPC responded in writing on February 22, 2002.

Under section 751(a)(3)(A) of the Act, the Department may extend the deadline for issuing the preliminary results in an administrative review if it determines that it is not practicable to complete the preliminary results within the statutory time limit of 245 days. On April 4, 2002, the Department published a notice of extension of the time limit for the completion of the preliminary results by 120 days, until July 31, 2002. See Administrative Review of Certain In-Shell Raw Pistachios From Iran: Extension of Time Limit for Preliminary Results of Antidumping Duty Administrative Review, 67 FR 16088 (April 4, 2002).

On June 11, 2002, the Department issued a memorandum indicating its intent to rescind the administrative review covering RPPC and invited interested parties to submit comments on its intent to rescind no later than June 25, 2002. See Decision Memorandum from Phyllis Hall, Case Analyst through Donna Kinsella, Case Manager and Richard Weible, Director, Office 8 to Joseph Spetrini, Deputy Assistant Secretary dated June 10, 2002. On June 24, 2002, the Department received joint comments from Cyrus and RPPC. No other interested party comments were received. On July 23, 2002, Cyrus submitted additional information that the Department rejected as untimely. See Letter from Phyllis Hall to Ed Borcherdt dated July 30, 2002.

Analysis of Comments Received

Pursuant to 19 CFR 351.213(d)(3), the Department may rescind an administrative review, in whole or only with respect to a particular exporter or producer, if the Department concludes that, during the period covered by the review, there were no entries, exports or sales of the subject merchandise. In light of the fact that we have determined that the only company covered by the review did not have entries for consumption into the territory of the United States during the POR in question, we find that rescinding this review is appropriate. For a complete discussion see “Decision to Rescind the Antidumping Duty Administrative Review of Certain In-Shell Raw Pistachios from Iran Memorandum” from Donna Kinsella, Case Manager and Richard Weible, Director Office 8 through Joseph A. Spetrini, Deputy Assistant Secretary, Import Administration to Faryar Shirzad, Assistant Secretary for Import Administration dated July 31, 2002. The cash-deposit rate for RPPC will remain at 184.28 percent, the rate established in the most recently completed segment of this proceeding, adjusted for export subsidies. See Certain In-Shell Pistachios: Final Determination of Sales at Less Than Fair Value, 51 FR 18919, May 23, 1986.

This notice is in accordance with section 777(i) of the Act and 19 CFR 351.213(d)(4).

Dated: July 31, 2002.
Faryar Shirzad,
Assistant Secretary for Import Administration.

[FR Doc. 02-19991 Filed 8-6-02; 8:45 am]

BILLING CODE 3510-DS-S